DEPARTMENT OF HEALTH AND HUMAN SERVICES

Health Resources and Services Administration

Statement of Organization, Functions, and Delegations of Authority

This notice amends Part R of the Statement of Organization, Functions and Delegations of Authority of the Department of Health and Human Services (HHS), Health Recourses and Services Administration (HRSA) (60 FR 56605, as amended November 6, 1995; as last amended at 87 FR 229-230 dated January 4, 2022). This reorganization updates the functions of the Provider Relief Bureau (RD).

Chapter RD—Provider Relief Bureau

Section RD.10 Organization

Delete the organization for the Provider Relief Bureau (RD) in its entirety and replace with the following:

The Provider Relief Bureau (RD) is headed by the Associate Administrator, who reports directly to the Administrator, HRSA. The Provider Relief Bureau includes the following components:

(1) Office of the Associate Administrator (RD);

(2) Division of Customer Support (RD2);

(3) Division of Program Operations (RD4);

(4) Division of Data Analytics (RD5); and

(5) Division of Program Integrity (RD6).

Section RD.20 Function

Delete the functional statement for the Provider Relief Bureau (RD) in its entirety and replace with the following:

Provider Relief Bureau (RD)

The Provider Relief Bureau (PRB) ensures resiliency of the nation's health care systems and infrastructure by supporting health care entities in the United States to prevent, prepare for, and respond to coronavirus. PRB reimburses health care providers for health care-related expenses or lost revenues attributable to coronavirus and provides claims reimbursement for health care entities for COVID-19 testing, treatment, and vaccine administration for uninsured and under insured individuals.

Office of the Associate Administrator (RD)

The Office of the Associate Administrator (OAA) provides overall leadership, direction, coordination, and planning in support of the programs designed to make payments to health care providers for expenses and lost revenue related to COVID-19 and to reimburse health care entities' claims for COVID-19 testing, treatment and/or vaccine administration of uninsured and under insured individuals, helping to ensure a sustained, robust health care system. The Office: (1) guides and directs the development of policy priorities for the allocation of payments and claims reimbursements and ensures the proper management of programs; (2) leads the Bureau's administrative and management functions; (3) coordinates and tracking the development policies to ensure consistency across the Bureau, leads Bureau efforts to analyze issues arising from legislation, budget proposals, regulatory actions, and other program or policy actions; keep Congress apprised of programs and activities as necessary; (4) engagements and audits with the Government Accountability Office and the Department of Health and Human Services' Office of Inspector General; and (5) develops and leads the communications strategy for PRB's direct provider payment and claims reimbursement programs with both broad and targeted tactics.

Division of Customer Support (RD2)

The Division of Customer Support serves as the organizational focal point for PRB's centralized, comprehensive customer service function to respond to inquiries and support recipients or potential recipients of program funds, as well as stakeholders for all PRB programs. The Division is responsible for the process and adjudication of appeals and disputes brought forward from recipients of program funds.

Division of Program Operations (RD4)

The Division of Program Operations is responsible for the program operations lifecycle, from creation to reporting, for all PRB direct provider payment and claims reimbursement programs. This Division is integral in collaborating internally and with other federal partners to assist efforts that combat fraud, waste, and abuse and supporting program integrity and assessment efforts related to these programs.

Division of Data Analytics (RD5)

The Division of Data Analytics is responsible for the collection, management, and analysis of the data needed for all PRB programs, as well as the quality and evaluation of program data, with the goal of fostering transparency of program impact and outcomes. The Division maintains data and analytic capabilities to inform policy decisions and support program functions, as well as develops and manages program data strategy, analyses, and information sharing.

Division of Program Integrity (RD6)

The Division of Program Integrity is responsible for ensuring the overall integrity of PRB programs and payments made. Specifically, the Division develops and manages Bureau-wide program and payment integrity strategies, as well as evaluates provider compliance with laws, regulations, and program terms and conditions.

Section RD.30 Delegation of Authority

All delegations of authority and re-delegations of authority made to officials and employees of affected organizational components will continue in them or their successors pending further redelegation, if allowed, provided they are consistent with this reorganization.

This reorganization is effective upon date of signature.

(Authority: 44 U.S.C. 3101)

Diana Espinosa,
Deputy Administrator.

[FR Doc. 2022-19941 Filed 9-28-22; 8:45 am]

BILLING CODE 4165-15-P